DEPARTMENT OF AGRICULTURE

Forest Service

Proposed Land Management Plan Availability and 90-Day Comment Period Commencement

AGENCY: Grand Mesa, Uncompahgre, and Gunnison National Forests, Rocky Mountain Region, Forest Service, USDA.

ACTION: Notice of Availability of the proposed Land Management Plan for the Grand Mesa, Uncompahgre, and Gunnison National Forests and Commencement of the 90-Day Comment Period (per 36 CFR 219.9(b)(3)(ii).

DATES: The comment period will run 90 days from publication of this notice in the Federal Register or newspaper of record The Daily Sentinel, Grand Junction, Colorado) whichever occurs later. We currently estimate the period to end on or about June 20, 2007. Check the GMUG Web site for the actual date.

SUMMARY: The Grand Mesa, Uncompahgre, and Gunnison National Forests (GMUG) has made its proposed Land Management Plan and associated documents available for review. Interested parties are invited to review and comment on the proposed Plan and supporting documents, which include:

1. The proposed Land Management Plan, including maps and appendices (approximately 300 pages).

2. The proposed Land Management Plan Newsletter including Key Changes from current plan (16 pages).

3. The Comprehensive Evaluation Report summary of social, economic, and ecological conditions, trends, and management implications (approximately 280 pages).

The Comprehensive Assessments of conditions and trends which include volumes on terrestrial resources, watershed and aquatic resources, geologic and mineral resources, and human uses of the forest (4 volumes totaling approximately 2,500 pages).

The proposed Forest Plan, and Comprehensive Evaluation Report can be accessed, viewed, and downloaded from our planning Web site at http://www.fs.fed.us/r2/gmug/policy/plan_rev/, or by obtaining a CD from forest headquarters. The Comprehensive Assessments will be available on CD only and sent to those who request it. Paper copies of the proposed Forest Plan newsletter and readers guide are available. Additionally, Geographic Information System (GIS) data used in the development of the proposed Plan can be viewed, and maps can be produced, on the Internet using ArcIMS. With this option you can view single date layers or overlay different layers. You can view the data forest-wide or zoom to your area of interest. To use this option, navigate to http://maps.fs.fed.us and scroll to the Grand Mesa, Uncompahgre, and Gunnison National Forests (GMUG) project.

Public Involvement: Current information and details of upcoming public participation opportunities are posted on our Web site: http://www.fs.fed.us/r2/gmug/policy/plan_rev/. Contact Anne Janik (970) 874-6637, or e-mail ajanik@fs.fed.us to be placed on our mailing list.

ADDRESSES: Physical location: GMUG Forest Planning, 2250 Highway 50, Delta CO, 81416; or by e-mail r2_GMUG_planning@fs.fed.us.

FOR FURTHER INFORMATION CONTACT: Gary Shellhorn, Analysis Team Leader, GMUG National Forest, (970) 874-6666 or e-mail gshellhorn@fs.fed.us or view our Web site at http://www.fs.fed.us/r2/gmug/policy/plan_rev/.

Responsible Official

Charles S. Richmond, Forest Supervisor, Grand Mesa, Uncompahgre, and Gunnison National Forests, 2250 Highway 50, Delta, CO 81416.

SUPPLEMENTARY INFORMATION: The Grand Mesa, Uncompahgre, and Gunnison National Forests (GMUG) are managed as a single administrative unit. The National Forest Management Act (NFMA) requires that all forest land management plans (Plans) be revised every 10-15 years. The current GMUG Plan was completed in 1983, and subsequently amended numerous times. The Plan needs to be updated to address changes that have occurred in and around the GMUG during the past two decades. There have been substantial changes in social, economic, and ecological conditions. Some of these include major population growth, dramatic increases in OHV use, the spread of invasive species, and the encroachment of development into the wildland interface. In addition, there are new laws, policies, and regulations and scientific research and technical developments that need to be incorporated into the Plan. Once finalized, the Plan will guide future programs and projects on the Forest. During project development, there will be public involvement and NEPA compliance prior to project decisions being made.

This has been an open planning process with numerous opportunities for the public to obtain information, provide comment, or participate in collaborative stakeholder activities. We have been using public comments to develop the proposed Plan through an iterative process of public participation, review, and adjustment. Review and comment on the proposed Plan during the 90-day comment period is the next step in an ongoing public process. Options for the public include: (1) Reviewing and commenting on the proposed Plan or supporting documents, (2) attending open house meetings, or (3) requesting planning team presentations to specific groups. We have scheduled five open house meetings (Montrose, Gunnison, Grand Junction, Hotchkiss and Norwood) where the public can obtain documents and discuss the proposed Plan with the District and planning team personnel.

Open house Meetings

1. April 12, 2007 (Thursday), 5:30-8:30 pm, Hotchkiss, Hotchkiss Public Library, First and Main.

2. April 17, 2007 (Tuesday), 5:30-8:30 pm, Norwood, Community Center, 1670 Naturita.

3. April 19, 2007 (Thursday), 5:30-8:30 p.m., Montrose, Montrose Pavilion, Pavilion Way.

4. April 25, 2007 (Wednesday), 5:30-8:30 p.m., Grand Junction, Country Inn of America—718 Horizon Drive.

5. April 26, 2007 (Thursday), 5:30-8:30 p.m., Gunnison, Gunnison County Fairgrounds-Multi-Purpose Room, 275 South Spruce.

The GMUG transition its forest planning process to the 2005 Planning Rule in May 2005 (36 CFR 219, FR Vol. 70, No. 3./January 5, 2005, 1023). This rule provides for a formal 90-day comment period on proposed Plans. If you have not already submitted written comments during the GMUG Plan revision process, commenting during this 90-day period will be your last opportunity to do so in a manner that will provide standing for the 30-day pre-decisional objection period. Comments will be most helpful if they:

1. State that the comment is filed in response to the comment period of the GMUG Proposed Forest Plan.

2. Identify the title of the document that your comment is addressing (Proposed Plan, Comprehensive Evaluation Report, Comprehensive Assessments).

3. Address specific Plan components (desired conditions, objectives, suitability for uses, guidelines, and special areas) and Forest locations where the concern applies.

Please note that all comments, names, and addresses become part of the public record and are subject to FOIA, except for propriety documents and information.

Consider the following questions in developing your comments:

1. Where specifically do you disagree with desired conditions, or suitability for specific uses or activities? What specifically would you change and why?

2. Do you recommend changes to desired conditions for a resource or program, or to boundaries for management areas or suitable uses? Why?

3. Do you have additional recommendations for objectives that could help maintain or achieve desired conditions for an area?

4. Which desired conditions will be most important to monitor and what monitoring measures do you recommend?

5. Do you have suggestions for changes in or additions to guidelines for specific management activities or resource programs?

Comments must be postmarked no later than 90 days after publication of this notice in the Federal Register or Daily Sentinel (Grand Junction, Colorado) whichever occurs later. The actual postmark date will be on the GMUG Web site. Please send your comments to: GMUG Forest Plan Revision, 2250 Highway 50, Delta, Co 81416-2485; or e-mail them to r2_GMUG_planning@fs.fed.us.

Dated: March 15, 2007.
Charles S. Richmond,
Forest Supervisor, Grand Mesa, Uncompahgre, and Gunnison National Forests.

[FR Doc. 07-1372 Filed 3-22-07; 8:45 am]

BILLING CODE 3410-ES-M